DEPARTMENT OF TRANSPORTATION

Federal Aviation Administration

[Summary Notice No. PE-2000-44]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before October 2, 2000.

ADDRESSES: Send comments on any petition in triplicate to: Federal Aviation Administration, Office of the Chief Counsel, Attn: Rule Docket (AGC-200), Petition Docket _____, 800 Independence Avenue, SW., Washington, DC 20591.

The petition, any comments received, and a copy of any final disposition are filed in the assigned regulatory docket and are available for examination in the Rules Docket (ARC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, D.C., on September 5, 2000.
Joseph A. Conte,
Acting Assistant Chief Counsel for Regulations.

Dispositions of Petitions

Docket No.: 28718

Petitioner: The Goodyear Tire & Rubber Company

Section of the FAR Affected: 14 CFR 21.325(b)(3)

Description of Relief Sought/Disposition: To permit the issuance of export airworthiness approvals for aircraft tires manufactured and located at Goodyear's Bangkok, Thailand, facility.

Grant, 08/14/00, Exemption No. 6682C

Docket No.: 29509

Petitioner: Michelin Aircraft Tire Corporation

Section of the FAR Affected: 14 CFR 21.325(b)(3)

Description of Relief Sought/Disposition: To permit the issuance of U.S. export airworthiness approvals for aircraft tires manufactured and located at Michelin's Nong Khae, Thailand facility.

Grant, 08/14/00, Exemption No. 7099A

Docket No.: 30163

Petitioner: Skyfest Michiana

Section of the FAR Affected: 14 CFR 135.251, 135.255, 135.353, and appendixes I and J to part 121

Description of Relief Sought/Disposition: To permit Skyfest Michiana to conduct local sightseeing flights at Goshen Municipal Airport, Indiana, for its three-day airshow event in August 2000, for compensation or hire, without complying with certain anti-drug and alcohol misuse prevention requirements of part 135.

Grant, 08/24/00, Exemption No. 7326

Docket No.: 30171

Petitioner: Chautauqua Airlines, Inc.

Section of the FAR Affected: 14 CFR 121.344(e)

Description of Relief Sought/Disposition: To permit CA to operate seven newly manufactured EMB-145 airplanes that are delivered to Chautauqua after August 18, 2000, and prior to January 31, 2001, without those airplanes being able to record data.

Grant, 08/21/00, Exemption No. 7322

Docket No.: 29309

Petitioner: Hi-Lift Helicopters International, Ltd.

Section of the FAR Affected: 14 CFR 133.19(a)(3) and 133.51

Description of Relief Sought/Disposition: To permit Hi-Lift to conduct external-loan operations in the United States using Canadian-registered rotorcraft.

Grant, 08/18/00, Exemption No.6814A

Docket No.: 26048

Petitioner: National Test Pilot School

Section of the FAR Affected: 14 CFR 91.319(a) (1) and (2)

Description of Relief Sought/Disposition: To permit NTPS to operate aircraft that have experimental certificates to train flight test students who are pilots and flight engineers through the demonstration and practice of flight test techniques, and to teach these students flight test data acquisition methods for compensation.

Grant, 08/18/00, Exemption No. 5778E

Docket No.: 22872

Petitioner: Air Transport Association of America

Section of the FAR Affected: 14 CFR 121.424(a), (b) and (d) (1); item I(a) of appendix E to part 121; and I(b) of appendix F to part 121

Description of Relief Sought/Disposition: To permit ATA member airlines and other qualifying part 121 certificate holders to conduct training and checking of pilots on airplanes that require two flight crewmembers for the required preflight inspection, both interior and exterior, using approved advanced pictorial means.

Grant, 08/18/00, Exemption No.4416H

Docket No.: 27294

Petitioner: Air Transport Association of America

Section of the FAR Affected: 14 CFR 121.309(f)(2)

Description of Relief Sought/Disposition: To permit ATA-member airlines to locate the aft megaphone at door 4-left on their Boeing 747 aircraft.

Grant, 08/18/00, Exemption No. 6140C

[FR Doc. 00-23184 Filed 9-8-00; 8:45 am]

BILLING CODE 4910-13-M